ENVIRONMENTAL PROTECTION AGENCY

[FRL-7831-7]

Notice of Availability of Draft NPDES General Permits for Discharges From Groundwater Remediation and Miscellaneous Surface Water Discharge Activities in the States of Massachusetts and New Hampshire and Indian Country Lands in the State of Massachusetts

AGENCY: Environmental Protection Agency (EPA).

ACTION: Notice of Availability of Draft NPDES General Permits MAG910000 and NHG910000.

SUMMARY: The Director of the Office of Ecosystem Protection at the Environmental Protection Agency's New England Regional Office (EPA-NE), is proposing to issue National Pollutant Discharge Elimination System (NPDES) general permits to cover the discharge of contaminated waters primarily related to groundwater remediation activities. The general permits also cover a number of miscellaneous discharges, including from: Construction projects where chemical contamination is present; well development or rehabilitation and aquifer pump testing at formerly contaminated sites; clean-up of industrial sumps; pump-out of utility vaults and manholes; hydrostatic testing of pipelines and tanks; and short-term testing at dredging projects not covered by a permit issued by the Army Corps of Engineers.

The proposed permits cover discharges to surface receiving waters (waters of the United States) in the State of New Hampshire (NH), the Commonwealth of Massachusetts (MA), as well as in Indian Country lands located in Massachusetts. These general permits do not cover new sources as defined under 40 CFR 122.2. The purpose of this document is for soliciting public comment on the proposed general permits.

DATES: Interested persons may submit written comments on the draft general permits to EPA Region 1 at the address given in the ADDRESSES section of this notice. Written comments must be received by EPA or postmarked by midnight on December 17, 2004.

Within the comment period, interested persons may also request in writing a public hearing pursuant to 40 CFR 124.12 concerning the draft general permits. Such requests shall state the nature of the issues proposed to be raised at the hearing. A public hearing may be held at least thirty days after public notice whenever the Regional Administrator finds that response to this notice indicates significant public interest. In reaching a final decision on this draft permit, the Regional Administrator will respond to all significant comments and make responses available to the public at EPA's Boston office. All public comments or requests for a public hearing must be submitted to the address below.

ADDRESSES: Written comments submitted in response to this public notice may be hand delivered or mailed to: Mr. Roger A. Janson, Director, NPDES Permits Unit, Office of Ecosystem Protection (mail code: CPE),US EPA-NE, 1 Congress St, Suite 1100, Boston, MA 02114-2023.

EPA also requests that comments be sent via e-mail to Rapp.Steve@EPA.GOV. However, no facsimiles (faxes) will be accepted.

A copy of all comments and supporting materials should also be submitted to:

In MA: Mr. Paul Hogan, NPDES Permit Unit, MA Dept. of Env. Protection, 627 Main Street, Worcester, MA 01608.

In NH: Mr. George Berlandi, NH Dept. of Env. Services, Wastewater Engineering Bureau, P.O. Box 95, Concord, NH 03302-0095.

FOR FURTHER INFORMATION CONTACT: Additional information concerning the final permit may be obtained between the hours of 8 a.m. and 4 p.m., Monday through Friday, excluding holidays, from Steven Rapp, Office of Ecosystem Protection, EPA-NE, 1 Congress St., Suite 1100 (mail code: CPE), Boston, MA 02114-2023; telephone: 617-918-1551; e-mail: Rapp.Steve@epa.gov. The draft permits are based on an administrative record. The record is available for public review at the EPA Region 1 address listed above. Copies of information in the record are available upon request. A reasonable fee may be charged for copying.

SUPPLEMENTARY INFORMATION: The proposed general permits include administrative requirements, effluent limitations for freshwaters and marine waters, monitoring requirements, as well as other standards, conditions, prohibitions, and management practices. A Fact Sheet has also been prepared for the general permits. The Fact Sheet sets forth the principal factual, legal, and policy information considered in the development of the draft permits, as well as a description of the types of discharges eligible for permit coverage under the general permits.

The draft general permit and Fact Sheet and suggested forms may be viewed and downloaded over the Internet via the EPA-Region 1 Web site. For dischargers in Massachusetts, see: http://www.epa.gov/ne/npdes/mass.html. For dischargers in New Hampshire, see: http://www.epa.gov/ne/npdes/newhampshire.html). To obtain a paper copy of the permits and Fact Sheet, including suggested notice forms, please contact EPA-NE using the contact information provided in the ADDRESSES section of this notice.

When the general permits are issued, the notice of final issuance will be published in the Federal Register. The general permits shall be effective on the date specified in the notice of final issuance of the general permits published in the Federal Register and will expire five years from the effective date.

Dated: October 20, 2004.
Robert W. Varney,
Regional Administrator, Region 1.

[FR Doc. 04-24417 Filed 11-1-04; 8:45 am]

BILLING CODE 6560-50-P